DEPARTMENT OF THE INTERIOR

Fish and Wildlife Service

[FWS-R2-ES-2013-N240; FXES11130200000-145-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before January 10, 2014.

ADDRESSES: Marty Tuegel, Section 10 Coordinator, by U.S. mail at Division of Endangered Species, U.S. Fish and Wildlife Service, P.O. Box 1306, Room 6034, Albuquerque, NM at 505-248-6920. Please refer to the respective permit number for each application when submitting comments.

FOR FURTHER INFORMATION CONTACT: Susan Jacobsen, Chief, Endangered Species Division, P.O. Box 1306, Albuquerque, NM 87103; 505-248-6651.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-078189

Applicant: Adkins Consulting Inc., Durango, Colorado.

Applicant requests a renewal to a current permit for research and recovery purposes to conduct presence/absence surveys of southwestern willow flycatcher (Empinodax traillii extimus) within New Mexico.

Permit TE-819477

Applicant: Parametrix, Inc., Albuquerque, New Mexico.

Applicant requests an amendment to a current permit for research and recovery purposes to conduct presence/absence surveys and temporarily hold for the purposes of collecting biological data Jemez Mountain salamanders (Plethodon neomexicanus) within New Mexico.

Permit TE-045236

Applicant: SWCA, Inc., Albuquerque, New Mexico.

Applicant requests an amendment to a current permit for research and recovery purposes to conduct presence/absence surveys; construction monitoring; capture and relocation of Jemez Mountain salamanders (Plethodon neomexicanus) within New Mexico.

Permit TE-071287

Applicant: Bruce Christman, Albuquerque, New Mexico.

Applicant requests a renewal to an expired permit for research and recovery purposes to conduct presence/absence surveys and temporarily hold for the purposes of collecting biological data Jemez Mountain salamanders (Plethodon neomexicanus) within New Mexico.

Permit TE-19661B

Applicant: Tetra Tech, Inc., Portland, Oregon.

Applicant requests an amendment to a current permit for research and recovery purposes to conduct presence/absence surveys for Rio Grande silvery minnow (Hybognathus amarus) within the Middle Rio Grande River, New Mexico.

Permit TE-116382

Applicant: Peoria Tribe of Indians of Oklahoma, Miami, Oklahoma.

Applicant requests an amendment to a current permit for research and recovery purposes to hold and propagate Neosho mucket (Lampsilis rafinesqueana) and release into the wild in Oklahoma.

Permit TE-833851

Applicant: City of Austin Watershed Protection Department, Austin, Texas.

Applicant requests an amendment to a current permit for research and recovery purposes to conduct presence/absence surveys; abundance surveys using mark/recapture; hormone sampling; collection of up to 3 individuals as voucher specimens from new locations; and collection of tail clips for genetic sampling of the Austin blind salamander (Eurycea waterlooensis) within Texas.

Permit TE-13850A

Applicant: Jarrod Edens, Edmond, Oklahoma.

Applicant requests a renewal to a current permit for research and recovery purposes to conduct presence/absence surveys for American burying beetle (Nicrophorus americanus) within Oklahoma, Texas, and Arkansas.

Permit TE-819558

Applicant: U.S.D.A. Forest Service, National Forests and Grasslands in Texas, Lufkin, Texas.

Applicant requests a renewal to a current permit for research and recovery purposes to conduct presence/absence surveys of interior least tern (Sterna antillarum) and American burying beetle (Nicrophorus americanus) and the following activities for red-cockaded woodpecker (Picoides borealis) in Texas: presence/absence surveys; roost searches; tree activity status checks; handling of juvenile and chicks; banding of adults; banding of nestlings; translocating; trapping; installing artificial cavities, and cavity exams.

Permit TE-676811

Applicant: U.S. Fish and Wildlife Service-Region 2, Albuquerque, New Mexico.

Applicant requests an amendment to a current permit for research and recovery purposes to conduct presence/absence surveys and recovery the following species within New Mexico, Oklahoma, and Texas:

• Austin blind salamander (Eurycea waterlooensis)

• Chupadera springsnail (Pyrgulopsis chupadarae)

• Jemez Mountains salamander (Plethodon neomexicanus)

• Neosho mucket (Lampsilis Rafinesqueana)

Permit TE-819451

Applicant: Travis County Transportation and Natural Resources, Austin, Texas.

Applicant requests a renewal to a current permit for research and recovery purposes to conduct presence/absence surveys of the following species in Texas:

• Bee Creek Cave harvestman (Texella reddelli)

• Black-capped vireo (Vireo atricapilla)

• Bone Cave harvestman (Texella reyesi)

• Braken Bat Cave meshweaver (Cicurina venii)

• Coffin Cave mold beetle (Batrisodes texanus)

• Cokendolpher Cave harvestman (Texella cokendolpheri)

• Golden-cheeked warbler (Dendroica chrysoparia)

• Government Canyon Bat Cave meshweaver (Cicurina vespera)

• Government Canyon Bat Cave spider (Neoleptoneta microps)

• Ground beetle (Rhadine exilis)

• Ground beetle (Rhadine infernalis)

• Helotes mold beetle (Batrisodes venyivi)

• Kretschmarr Cave mold beetle (Texamaurops reddelli)

• Madla Cave meshweaver (Cicurina madla)

• Robber Baron Cave meshweaver (Cicurina baronia)

• Tooth Cave ground beetle (Rhadine persephone)

• Tooth Cave pseudoscorpion (Tartarocreagris texana)

• Tooth Cave spider (Neoleptoneta (=Leptoneta) myopica)

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: November 22, 2013.
Joy E. Nicholopoulos,
Acting Regional Director, Southwest Region.

[FR Doc. 2013-29460 Filed 12-10-13; 8:45 am]

BILLING CODE 4310-55-P